DEPARTMENT OF EDUCATION

[Docket ID ED-2017-OM-0092]

Privacy Act of 1974; System of Records

AGENCY: Office of Management, Department of Education.

ACTION: Notice of a modified system of records.

SUMMARY: In accordance with the Privacy Act of 1974, as amended (Privacy Act), the Department of Education (Department) modifies in its inventory of system of records notices subject to the Privacy Act the system of records entitled “Departmental Parking Control Policy” (18-05-01). The Departmental Parking Control Policy contains individually identifying information provided by individuals who wish to use parking spaces on Department-managed and Department-controlled property and on property assigned to the Department by the General Services Administration or any other Federal agency.

DATES: Submit your comments on this modified system of records notice on or before March 19, 2018.

This modified system of records will become effective upon publication in the Federal Register on February 16, 2018. New and modified routine use disclosures numbered (2)-(11) listed under “ROUTINE USES OF RECORDS MAINTAINED IN THE SYSTEM, INCLUDING CATEGORIES OF USERS AND PURPOSES OF SUCH USES” will become effective on March 19, 2018, unless the modified system of records notice needs to be changed as a result of public comment. The Department will publish any significant changes resulting from public comment.

ADDRESSES: Submit your comments through the Federal eRulemaking Portal or via postal mail, commercial delivery, or hand delivery. We will not accept comments submitted by fax or by email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under the “help” tab.

• Postal Mail, Commercial Delivery, or Hand Delivery: If you mail or deliver your comments about this modified system of records, address them to: Director, Logistics Services Division, Office of Management, U.S. Department of Education, 400 Maryland Avenue SW, Washington, DC 20202.

Privacy Note: The Department's policy is to make all comments received from members of the public available for public viewing in their entirety on the Federal eRulemaking Portal at www.regulations.gov. Therefore, commenters should be careful to include in their comments only information that they wish to make publicly available.

Assistance to Individuals with Disabilities in Reviewing the Rulemaking Record: On request we will provide an appropriate accommodation or auxiliary aid to an individual with a disability who needs assistance to review the comments or other documents in the public rulemaking record for this notice. If you want to schedule an appointment for this type of accommodation or auxiliary aid, please contact the person listed under FOR FURTHER INFORMATION CONTACT.

FOR FURTHER INFORMATION CONTACT: David Cogdill, Director, Logistics Services Division, Office of Management, U.S. Department of Education, 400 Maryland Avenue SW, Washington, DC 20202.

If you use a telecommunications device for the deaf (TDD) or a text telephone (TTY), you may call the Federal Relay Service (FRS), toll-free, at 1-800-877-8339.

SUPPLEMENTARY INFORMATION:

Introduction

The Departmental Parking Control Policy (18-05-01) System of Records Notice was last published in the Federal Register on June 4, 1999 (64 FR 30106, 30122-23). The system is being modified to update the system location and the system manager. The system is also being modified to update the categories of records to now include Department email address, automobile license number, make and model, and a participant-generated four-digit number. For notification and access to their records, individuals will now be able to give this four-digit number instead of their Social Security number. The authority of the system is being updated to reflect the current legal authority for maintenance. The name of the system is also changing and will now be referred to as the Parking Application Tracking System (PATS). The storage, retrieval, and safeguards of records have been updated to reflect the use of electronic files. The retention and disposition schedule are also being updated to reflect the specific Department records schedule related to this system. The Department also proposes to add standard routine uses allowing the disclosure of records in this system for various purposes.

Accessible Format: Individuals with disabilities can obtain this document in an accessible format (e.g., braille, large print, audiotape, or compact disc) on request to the person listed under FOR FURTHER INFORMATION CONTACT.

Electronic Access to This Document: The official version of this document is the document published in the Federal Register. Free internet access to the official edition of the Federal Register and the Code of Federal Regulations is available via the Federal Digital System at: www.gpo.gov/fdsys. At this site you can view this document, as well as all other documents of the Department published in the Federal Register, in text or Portable Document Format (PDF). To use PDF you must have Adobe Acrobat Reader, which is available free at the site. You may also access documents of the Department published in the Federal Register by using the article search feature at: www.federalregister.gov. Specifically, through the advanced search feature at this site, you can limit your search to documents published by the Department.

Dated: February 13, 2018.
Denise L. Carter,
Acting Assistant Secretary for Management.

For the reasons discussed in the preamble, the Acting Assistant Secretary for Management, U.S. Department of Education (Department), publishes a notice of a modified system of records to read as follows:

System Name and Number:

Parking Application Tracking System (PATS)(18-05-01).

SECURITY CLASSIFICATION:

Unclassified.

SYSTEM LOCATION:

Logistics Services Division, Office of Management, U.S. Department of Education, 400 Maryland Avenue SW, Washington, DC 20202.

SYSTEM MANAGER(S):

Director, Logistics Services Division, Office of Management, U.S. Department of Education, 400 Maryland Avenue SW, Washington, DC 20202.

AUTHORITY FOR MAINTENANCE OF THE SYSTEM:

The Federal Property and Administrative Services Act of 1949, as amended, 40 U.S.C. 101 et. seq., and 41 CFR 102-74.265-310 (Parking Facilities).

PURPOSE(S) OF THE SYSTEM:

The information contained in this system is used to: (1) Provide standards for apportionment and assignment of parking spaces on property managed by the Department of Education (Department) and Department-controlled property, and on property assigned to the Department by the General Services Administration (GSA) or any other Federal agency, and (2) allocate and check parking spaces assigned to government vehicles, visitors, handicapped personnel, executive personnel, carpool and van pools, and others.

CATEGORIES OF INDIVIDUALS COVERED BY THE SYSTEM:

All Department employees and non-Department carpool members utilizing parking facilities.

CATEGORIES OF RECORDS IN THE SYSTEM:

This system includes the following information on all persons applying for a parking permit: Name, participant-generated four-digit number, office room number, Department email address, office phone number, principal office, complete home address, and automobile license number, make and model.

RECORD SOURCE CATEGORIES:

Information in this system is obtained from reports submitted by Department staff, Principal Offices and Regional Offices, GSA Federal Management circulars, Federal Property Management Regulations, and directly from individuals.

ROUTINE USES OF RECORDS MAINTAINED IN THE SYSTEM, INCLUDING CATEGORIES OF USERS AND THE PURPOSES OF SUCH USES:

The Department may disclose information contained in a record in this system of records under the routine uses listed in this system of records without the consent of the individual if the disclosure is compatible with a purpose for which the record was collected. These disclosures are made on a case-by-case basis or, if the Department has complied with the computer matching requirements of the Privacy Act of 1974, as amended (Privacy Act), under a computer matching agreement.

(1) Congressional Member Disclosure. The Department may disclose the records of an individual to a member of Congress or the member's staff when necessary to respond to an inquiry from the member made at the written request of that individual. The member's right to the information is no greater than the right of the individual who requested the inquiry.

(2) Litigation and Alternative Dispute Resolution (ADR) Disclosure.

(a) Introduction. In the event that one of the parties listed in sub-paragraphs (i) through (v) is involved in judicial or administrative litigation or ADR, or has an interest in judicial or administrative litigation or ADR, the Department may disclose records to the parties described in paragraphs (b), (c), and (d) of this routine use under the conditions specified in those paragraphs:

(i) The Department or any of its components.

(ii) Any Department employee in his or her official capacity.

(iii) Any Department employee in his or her individual capacity if the U.S. Department of Justice (DOJ) has been requested to or has agreed to provide or arrange for representation for the employee.

(iv) Any Department employee in his or her individual capacity where the Department has agreed to represent the employee.

(v) The United States where the Department determines that the litigation is likely to affect the Department or any of its components.

(b) Disclosure to DOJ. If the Department determines that disclosure of records to DOJ is relevant and necessary to the litigation or ADR, the Department may disclose those records as a routine use to DOJ.

(c) Adjudicative Disclosure. If the Department determines that it is relevant and necessary to the litigation or ADR to disclose records to an adjudicative body before which the Department is authorized to appear or to a person or an entity designated by the Department or otherwise empowered to resolve or mediate disputes, the Department may disclose those records as a routine use to the adjudicative body, person, or entity.

(d) Disclosure to Parties, Counsel, Representatives, or Witnesses. If the Department determines that disclosure of records to a party, counsel, representative, or witness is relevant and necessary to the litigation or ADR, the Department may disclose those records as a routine use to the party, counsel, representative, or witness.

(3) Enforcement Disclosure. In the event that information in this system indicates a violation or potential violation of any statute, regulation, or order of competent authority, the Department may disclose relevant records to the appropriate agency responsible for investigating or prosecuting that violation or charged with enforcing or implementing the statute, regulation, or order. In monitoring compliance with the statutes, regulations, laws, and orders governing its programs and activities, the Department may discover information revealing violations of these statutes, regulations, laws, and orders.

(4) Employment, Benefit, and Contracting Disclosure. For “Decisions by the Department,” the Department may disclose a record to a Federal, State, or local agency maintaining civil, criminal, or other relevant enforcement or other pertinent records, or to another public authority or professional organization, if necessary to obtain information relevant to a Department decision concerning the hiring or retention of an employee or other personnel action, the issuance of a security clearance, the letting of a contract, or the issuance of a license, grant, or other benefit. For “Decisions by Other Public Agencies and Professional Organizations,” the Department may disclose a record to a Federal, State, local, or foreign agency or other public authority or professional organization, in connection with its decision concerning the hiring or retention of an employee or other personnel action, the issuance of a security clearance, the reporting of an investigation of an employee, the letting of a contract, or the issuance of a license, grant, or other benefit, to the extent that the record is relevant and necessary to the receiving entity's decision on the matter.

(5) Employee Grievance, Complaint, or Conduct Disclosure. The Department may disclose a record in this system of records to another agency of the Federal government if the record is relevant to one of the following proceedings regarding a current or former employee of the Department: A complaint, a grievance, or a disciplinary or competency determination proceeding. The disclosure may only be made during the course of the proceeding.

(6) Labor Organization Disclosure. The Department may disclose records from this system of records to an arbitrator to resolve disputes under a negotiated grievance procedure or to officials of labor organizations recognized under 5 U.S.C. chapter 71 when relevant and necessary to their duties of exclusive representation.

(7) Freedom of Information Act (FOIA) and Privacy Act Advice Disclosure. The Department may disclose records to DOJ or the Office of Management and Budget if the Department concludes that disclosure is desirable or necessary in determining whether particular records are required to be disclosed under FOIA or the Privacy Act.

(8) Contract Disclosure. The Department may disclose records to employees of an entity with which the Department contracts when disclosure is necessary for an employee of the entity to perform a function pursuant to the Department's contract with the entity. As part of such a contract, the Department will require the contractor to maintain safeguards to protect the security and confidentiality of the records in the system.

(9) Research Disclosure. The Department may disclose records to a researcher if an appropriate official of the Department determines that the individual or organization to which the disclosure would be made is qualified to carry our specific research related to functions or purposes of this system of records. The official may disclose records from this system of records to that researcher solely for the purpose of carrying out that research related to the functions or purposes of this system of records. As part of such a contract, the Department will require the researcher to maintain safeguards to protect the security and confidentiality of the disclosed records.

(10) Disclosure in the Course of Responding to a Breach of Data. The Department may disclose records from this system to appropriate agencies, entities, and persons when (1) the Department suspects or has confirmed that there has been a breach of the system of records; (2) the Department has determined that as a result of the suspected or confirmed breach there is a risk of harm to individuals, the Department (including its information systems, programs, and operations), the Federal government, or national security; and (3) the disclosure made to such agencies, entities, and persons is reasonably necessary to assist in connection with the Department's efforts to respond to the suspected or confirmed breach or to prevent, minimize, or remedy such harm.

(11) Disclosure in Assisting another Agency in Responding to a Breach of Data. The Department may disclose records from this system to another Federal agency or Federal entity, when the Department determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

POLICIES AND PRACTICES FOR STORAGE OF RECORDS:

Records are stored electronically, and the signage sheets are produced and kept in binders in file cabinets.

POLICIES AND PRACTICES FOR RETRIEVAL OF RECORDS:

Records are retrieved by parking facility, parking criteria, and participant's name. Binders are stored alphabetically by parking facility.

POLICIES AND PRACTICES FOR RETENTION AND DISPOSAL OF RECORDS:

ED Schedule 174: Credential Files for the Office of Management. Disposition instructions: TEMPORARY. Cut off after return to issuing office. Destroy/delete 3 months after cutoff.

ADMINISTRATIVE, TECHNICAL, AND PHYSICAL SAFEGUARDS:

All physical access to the Department site where this system of records is maintained, is controlled and monitored by security personnel who check each individual entering the building for his or her employee or visitor badge.

The computer system employed by the Department offers a high degree of resistance to tampering and circumvention. This security system limits data access to Department and contract staff on a “need to know” basis, and controls individual users' ability to access and alter records within the system. All users of this system of records are given a unique user ID with personal identifiers. All interactions by individual users with the system are recorded.

RECORD ACCESS PROCEDURES:

If you wish to access a record regarding you in this system of records, provide the system manager with necessary particulars of your name, participant-generated four-digit number, agency and office, and the location where Department parking is provided. Requesters should also reasonably specify the record contents sought. Your request must meet the requirements of the regulations at 34 CFR 5b.5, including proof of identity.

CONTESTING RECORD PROCEDURES:

If you wish to request an amendment to your records, provide the system manager with necessary particulars of your name, participant-generated four-digit number, agency and office, and the location where the parking is provided. Contact the system manager at the address specified under NOTIFICATION PROCEDURES below, and reasonably identify the record and specify the information to be contested. Your request must meet the requirements of the regulations at 34 CFR 5b.7.

NOTIFICATION PROCEDURES:

If you wish to determine whether a record exists regarding you in this system of records, provide the system manager with necessary particulars of your name, participant-generated four-digit number, agency and office, and the location where Department parking is provided. Your request must meet the requirements of the regulations at 34 CFR 5b.5, including proof of identity.

EXEMPTIONS PROMULGATED FOR THE SYSTEM:

None.

HISTORY:

The System of Records entitled “Departmental Parking Control Policy” (18-05-01) was last published in the Federal Register at 64 FR 30106, 30122-30123 (June 4, 1999).

[FR Doc. 2018-03276 Filed 2-15-18; 8:45 am]

BILLING CODE 4000-01-P